DEPARTMENT OF ENERGY

Federal Energy Regulatory Commission

Combined Notice of Filings #1

Take notice that the Commission received the following exempt wholesale generator filings:

Docket Numbers: EG19-49-000.

Applicants: 41MB 8ME, LLC.

Description: Notice of Self-Certification of Exempt Wholesale Generator Status of 41MB 8ME, LLC.

Filed Date: 1/15/19.

Accession Number: 20190115-5244.

Comments Due: 5 p.m. ET 2/5/19.

Take notice that the Commission received the following electric rate filings:

Docket Numbers: ER10-1818-018.

Applicants: Public Service Company of Colorado.

Description: Triennial MBR Update of Public Service Company of Colorado.

Filed Date: 1/11/19.

Accession Number: 20190111-5243.

Comments Due: 5 p.m. ET 3/12/19.

Docket Numbers: ER18-1686-002.

Applicants: Blackstone Wind Farm II LLC.

Description: Report Filing: Refund Report Filing to be effective N/A.

Filed Date: 1/16/19.

Accession Number: 20190116-5025.

Comments Due: 5 p.m. ET 2/6/19.

Docket Numbers: ER18-1688-002.

Applicants: Meadow Lake Wind Farm III LLC.

Description: Report Filing: Refund Report Filing to be effective N/A.

Filed Date: 1/16/19.

Accession Number: 20190116-5026.

Comments Due: 5 p.m. ET 2/6/19.

Docket Numbers: ER19-8-000.

Applicants: Sweetwater Solar, LLC.

Description: Report Filing: Notice of Consummation of Transaction and First Energy Dates to be effective N/A.

Filed Date: 1/11/19.

Accession Number: 20190111-5172.

Comments Due: 5 p.m. ET 2/1/19.

Docket Numbers: ER19-112-001.

Applicants: Midcontinent Independent System Operator, Inc.

Description: Tariff Amendment: 2019-01-15_SA 2395 Deficiency Response for H021 J041 4th Rev GIA to be effective 9/28/2018.

Filed Date: 1/15/19.

Accession Number: 20190115-5201.

Comments Due: 5 p.m. ET 2/5/19.

Docket Numbers: ER19-119-000.

Applicants: Techren Solar I LLC.

Description: Report Filing: Notice of Consummation of Transaction and First Energy Dates to be effective N/A.

Filed Date: 1/11/19.

Accession Number: 20190111-5171.

Comments Due: 5 p.m. ET 2/1/19.

Docket Numbers: ER19-362-001.

Applicants: Midcontinent Independent System Operator, Inc., ALLETE, Inc.

Description: Tariff Amendment: 2019-01-16_SA 3211 MP-GRE IA Substitute (Birch Lake) to be effective 11/20/2018.

Filed Date: 1/16/19.

Accession Number: 20190116-5055.

Comments Due: 5 p.m. ET 2/6/19.

Docket Numbers: ER19-369-001.

Applicants: Midcontinent Independent System Operator, Inc., ALLETE, Inc.

Description: Tariff Amendment: 2019-01-16_SA 3213 MP-GRE ICA Substitute (Stinson) to be effective 11/21/2018.

Filed Date: 1/16/19.

Accession Number: 20190116-5042.

Comments Due: 5 p.m. ET 2/6/19.

Docket Numbers: ER19-450-001.

Applicants: Southwest Power Pool, Inc.

Description: Tariff Amendment: 3396R1 Otter Tail Power Company NITSA and NOA (Amended) to be effective 2/1/2019.

Filed Date: 1/16/19.

Accession Number: 20190116-5074.

Comments Due: 5 p.m. ET 2/6/19.

Docket Numbers: ER19-814-000.

Applicants: Consolidated Edison Company of New York, Inc.

Description: Request for Limited One-Time Waiver of Tariff Provision, et al. of Consolidated Edison Company of New York, Inc.

Filed Date: 1/11/19.

Accession Number: 20190111-5212.

Comments Due: 5 p.m. ET 2/1/19.

Docket Numbers: ER19-818-000.

Applicants: Duke Energy Progress, LLC.

Description: § 205(d) Rate Filing: DEP-NCEMPA RS No. 200 Revision (State ADIT) to be effective 11/1/2018.

Filed Date: 1/15/19.

Accession Number: 20190115-5213.

Comments Due: 5 p.m. ET 2/5/19.

Docket Numbers: ER19-819-000.

Applicants: Energy America, LLC.

Description: Tariff Cancellation: cancellation filing to be effective 3/16/2019.

Filed Date: 1/15/19.

Accession Number: 20190115-5225.

Comments Due: 5 p.m. ET 2/5/19.

Docket Numbers: ER19-820-000.

Applicants: Turquoise Nevada LLC.

Description: Baseline eTariff Filing: Turquoise Nevada LLC Shared Facilities Agreement to be effective 1/16/2019.

Filed Date: 1/15/19.

Accession Number: 20190115-5247.

Comments Due: 5 p.m. ET 2/5/19.

Docket Numbers: ER19-821-000.

Applicants: Pennsylvania Electric Company, Jersey Central Power & Light Company, Metropolitan Edison Company, PJM Interconnection, L.L.C.

Description: § 205(d) Rate Filing: Penelec, et al submit revised WASPs, Service Agreement Nos. 4221, 4222, and 4223 to be effective 3/22/2019.

Filed Date: 1/16/19.

Accession Number: 20190116-5024.

Comments Due: 5 p.m. ET 2/6/19.

Docket Numbers: ER19-822-000.

Applicants: PJM Interconnection, L.L.C.

Description: § 205(d) Rate Filing: First Revised ISA SA No. 5249; Queue No. AD2-205 to be effective 12/17/2018.

Filed Date: 1/16/19.

Accession Number: 20190116-5054.

Comments Due: 5 p.m. ET 2/6/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 16, 2019.
Nathaniel J. Davis, Sr.,
Deputy Secretary.

[FR Doc. 2019-01160 Filed 2-5-19; 8:45 am]

BILLING CODE 6717-01-P